DEPARTMENT OF JUSTICE

[OMB Number 1121-0313]

Office of the Associate Attorney General; Agency Information Collection Activities: Proposed Collection; Comments Requested

ACTION: 30-Day Notice of Information Collection Under Review: Mandatory Case Reporting Form for the Internet Crimes Against Children Task Forces.

The Department of Justice (DOJ), Office of Justice Programs (OJP) will be submitting the following information collection request to the Office of Management and Budget (OMB) for review and approval in accordance with the Paperwork Reduction Act of 1995. The proposed collection of information is published to obtain comments from the public and affected agencies. This proposed information collection was previously published in the Federal Register [Volume 72, Number 141, page 40325 on July 24, 2007-29, 2007] allowing for a 60-day comment period. The purpose of this notice is to allow for an additional 30 days for public comment until November 1, 2007. This process is conducted in accordance with 5 CFR 1320.10.

All comments and suggestions, or questions regarding additional information, to include obtaining a copy of the proposed information collection instrument with instructions, should be directed to Currie Gunn, Office of the Associate Attorney General, Department of Justice, 950 Pennsylvania Ave, NW., Washington, DC 20530, or facsimile (202) 514-0238.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: New collection.

(2) The title of the form/collection: Case Reporting Form For the Internet Crimes Against Children Task Forces.

(3) The agency form number, if any, and the applicable component of the department sponsoring the collection: Form Number: none. Office of the Associate Attorney General, Department of Justice.

(4) Affected public who will be asked or required to respond, as well as a brief abstract: Primary: Internet Crimes Against Children Task Forces receiving over $20,000 in federal grants. Other: none. The grants to ICACs were authorized to make funds available to help State and local law enforcement agencies enhance their investigative response to offenders who use the Internet, online communication systems, or other computer technology to sexually exploit children.

(5) An estimate of the total number of respondents and the amount of time estimated for an average respondent to respond/reply: It is estimated that 45 respondents will complete the application in approximately 180 minutes.

(6) An estimate of the total public burden (in hours) associated with the collection: The estimated total annual public burden associated with this application is 135 hours.

If additional information is required contact: Lynn Bryant, Department Clearance Officer, United States Department of Justice, Justice Management Division, Policy and Planning Staff, Patrick Henry Building, Suite 1600, 601 D Street, NW., Washington, DC 20530.

Dated: September 26, 2007.
Lynn Bryant,
Department Clearance Officer, PRA, U.S. Department of Justice.

[FR Doc. E7-19440 Filed 10-1-07; 8:45 am]

BILLING CODE 4410-21-P